DEPARTMENT OF THE INTERIOR

Bureau of Land Management

[LLWO2100000 L11100000.DR0000.LXSISGST0000]

Notice of Availability of the Record of Decision; and Approved Resource Management Plan Amendments for the Rocky Mountain Region Greater Sage-Grouse Sub-Regions of Lewistown, North Dakota, Northwest Colorado, and Wyoming; and Approved Resource Management Plans for Billings, Buffalo, Cody, HiLine, Miles City, Pompeys Pillar National Monument, South Dakota, and Worland

AGENCY: Bureau of Land Management, Interior.

ACTION: Notice of availability.

SUMMARY: The Bureau of Land Management (BLM) announces the availability of the Record of Decision (ROD); and Approved Resource Management Plan Amendments (ARMPAs) for the Rocky Mountain Region Greater Sage-Grouse (GRSG) sub-regions of Lewistown, North Dakota, Northwest Colorado, and Wyoming; and Approved Resource Management Plans (ARMPs) for Billings, Buffalo, Cody, HiLine, Miles City, Pompeys Pillar National Monument, South Dakota, and Worland. The Assistant Secretary for Land and Minerals Management of the U.S. Department of the Interior signed the ROD.

ADDRESSES: Copies of the ROD, ARMPAs and ARMPs are available upon request and are also available for public inspection at the addresses listed in the SUPPLEMENTARY INFORMATION section. Interested persons may also review the ROD, ARMPAs and ARMPs on the internet at: http://www.blm.gov/wo/st/en/prog/more/sagegrouse.html.

FOR FURTHER INFORMATION CONTACT: Contacts for each subregion for the GRSG ARMPAs and ARMPs are listed in the SUPPLEMENTARY INFORMATION section.

Persons who use a telecommunications device for the deaf (TDD) may call the Federal Information Relay Service (FIRS) at 1-800-877-8339 to contact the listed individuals during normal business hours. The FIRS is available 24 hours a day, 7 days a week, to leave a message or question with the above individual. You will receive a reply during normal business hours.

SUPPLEMENTARY INFORMATION: This ROD; the ARMPAs for the Rocky Mountain Region GRSG sub-regions of Lewistown, North Dakota, Northwest Colorado, and Wyoming; and the ARMPs for Billings, Buffalo, Cody, HiLine, Miles City, Pompeys Pillar National Monument, South Dakota, and Worland were developed through a collaborative planning process in order to incorporate land use plan level measures into existing BLM land use plans to protect, enhance, and restore GRSG and their habitat by reducing, eliminating, or minimizing threats to GRSG habitat in the context of the BLM's multiple-use and sustained yield mission under FLPMA.

The ARMPAs and ARMPs approved by the ROD include land use allocations that limit or eliminate new surface disturbance in GRSG Priority Habitat Management Areas (PHMA), while minimizing disturbance in GRSG General Habitat Management Areas (GHMA). The Billings and Miles City ARMPs also include Restoration Habitat Management Areas (RHMA), where certain management actions in these areas provide for a balance between ongoing and future resource uses, so that habitat is maintained, while also allowing for residual populations in impacted areas to persist. The Northwest Colorado ARMPA also includes Linkage and Connectivity Habitat Management Areas (LCHMA), which have protections to facilitate the movement of GRSG and maintain ecological processes. In addition to establishing protective land use allocations, the ARMPAs and ARMPs implement a suite of management decisions, such as the establishment of disturbance limits, GRSG habitat objectives, mitigation requirements, monitoring protocols, and adaptive management triggers and responses, as well as other conservation measures throughout the range.

The cumulative effect of these measures is to protect, improve, and restore GRSG habitat across the remaining range of the species in the Rocky Mountain Region and provide greater certainty that BLM land and resource management activities in GRSG habitat will lead to conservation of the GRSG and other species associated with the sagebrush ecosystem in the region.

The ARMPs (plan revisions) approved by the ROD also provide updated land use plan management direction for all BLM program areas, including but not limited to, air quality, fish and wildlife, cultural, lands and realty, livestock grazing, minerals and energy, recreation and visitor services, soil and water, special management area designations (including Areas of Critical Environmental Concern), travel and transportation, vegetation, visual resources, wild horse and burros, land with wilderness characteristics, and wildland fire management.

The ARMPAs approved by the ROD amend the following BLM Resource Management Plans (RMPs), completed in the year indicated:

Lewistown GRSG ARMPA

• Judith RMP (1994)

• Headwaters RMP (1984)

North Dakota GRSG ARMPA

• North Dakota RMP (1988)

Northwest Colorado GRSG ARMPA

• Colorado River Valley RMP (2015)

• Grand Junction RMP (2015)

• Kremmling RMP (2015)

• Little Snake RMP (2011)

• White River RMP (1997)

Wyoming GRSG ARMPA

• Casper RMP (2007)

• Kemmerer RMP (2010)

• Newcastle RMP (2000)

• Pinedale RMP (2008)

• Rawlins RMP (2008)

• Green River RMP (1997) (being revised under the Rock Springs RMP)

The ARMPs (plan revisions) approved by the ROD will replace the following Resource Management Plans (RMPs):

Billings and Pompeys Pillar National Monument ARMPs

• Billings RMP (1984)

Buffalo ARMP

• Buffalo RMP (1985)

Cody ARMP (portion of the Bighorn Basin planning effort)

• Cody RMP (1990)

HiLine ARMP

• West HiLine RMP (1988)

• Judith-Valley-Phillips RMP (1994)

Miles City ARMP

• Big Dry RMP (1996)

• Powder River RMP (1985)

South Dakota ARMP

• South Dakota RMP (1986)

Worland ARMP (portion of the Bighorn Basin planning effort)

• Washakie RMP (1988)

• Grass Creek RMP (1998)

The Northwest Colorado and Wyoming Draft Land Use Plan Amendments (LUPAs)/Draft Environmental Impact Statements (EISs) and Proposed LUPAs/Final EISs included proposed GRSG management direction for National Forest System lands. However, the U.S. Forest Service (USFS) has completed a separate ROD and Land and Resource Management Plans under USFS planning authorities. Management decisions within the ROD and ARMPAs apply only to BLM-administered lands.

Across all sub-regions in the Rocky Mountain Region, the ROD, ARMPA and ARMPs amend and revise existing land use plan decisions on approximately 23 million BLM-administered surface acres.

Notices of Availability (NOA) for the Rocky Mountain Region GRSG Proposed LUPAs and RMPs/Final EISs were published in the Federal Register on May 29, 2015, which initiated a 30-day protest period and a 60-day Governor's consistency review period. The BLM received 149 timely and valid protest submissions across all Rocky Mountain proposed RMPs and LUPAs/Final EISs. All protests have been resolved and/or dismissed. For a full description of the issues raised during the protest period and how they were addressed, please refer to the Director's Protest Resolution Reports, which are available at the following Web site: http://www.blm.gov/wo/st/en/prog/planning/planning_overview/protest_resolution/protestreports.html.

The BLM received notifications of inconsistencies and recommendations as to how to resolve them during the Governor's consistency review period from the States of Colorado, Montana, North Dakota, South Dakota, and Wyoming. On August 6, 2015, the BLM State Directors for Colorado, Montana/Dakotas, and Wyoming sent notification letters to their respective States as to whether they accepted or rejected their recommendations for consistency. The States were then given 30 days to appeal the State Directors' decisions. The States of North Dakota and South Dakota appealed the BLM State Director's decisions. The BLM Director affirmed the State Director's decisions on these recommendations as the recommendations did not provide the balance required by 43 CFR 1610.3-2(e). The Director communicated his decisions on the appeals in writing to the Governors concurrently with the release of the RODs. The Proposed RMPs and LUPAs/Final EISs were selected in the ROD as the ARMPAs and ARMPs, with some minor modifications and clarifications based on protests received, the Governors' consistency reviews, and internal agency deliberations.

Copies of the Lewistown GRSG ROD and ARMPA are available upon request and are available for public inspection at:

• BLM Montana/Dakotas State Office, 5001 Southgate Drive, Billings, Montana 59101; and

• BLM Lewistown Field Office, 920 Northeast Main, Lewistown, Montana 59457.

Copies of the North Dakota GRSG ROD and ARMPA are available upon request and are available for public inspection at:

• BLM Montana/Dakotas State Office, 5001 Southgate Drive, Billings, Montana 59101; and

• BLM North Dakota Field Office, 99 23rd Avenue East, Suite A, Dickinson, North Dakota 58601.

Copies of the Northwest Colorado GRSG ROD and ARMPA are available upon request and are available for public inspection at:

• BLM Colorado State Office, 2850 Youngfield Street, Lakewood, Colorado 80215; and

• BLM Northwest District Office, 2815 H Road, Grand Junction, Colorado 81506.

Copies of the Wyoming GRSG ROD and ARMPA are available upon request and are available for public inspection at:

• BLM Wyoming State Office, 5353 Yellowstone Road, Cheyenne, Wyoming 82009;

• BLM Casper Field Office, 2987 Prospector Drive, Casper, Wyoming 82604;

• BLM Kemmerer Field Office, 312 Highway 189 North, Kemmerer, Wyoming 83101;

• BLM Newcastle Field Office, 1101 Washington Boulevard, Newcastle, Wyoming 82701;

• BLM Pinedale Field Office, 1625 West Pine Street, Pinedale, Wyoming 82941;

• BLM Rawlins Field Office, 1300 North Third, Rawlins, Wyoming 82301; and

• BLM Rock Springs Field Office, 280 Highway 191 North, Rock Springs, Wyoming 82901.

Copies of the Billings and Pompeys Pillar National Monument ROD and ARMPs are available upon request and are available for public inspection at:

• BLM Montana/Dakotas State Office and Billings Field Office, 5001 Southgate Drive, Billings, Montana 59101.

Copies of the Buffalo ROD and ARMP are available upon request and are available for public inspection at:

• BLM Wyoming State Office, 5353 Yellowstone Road, Cheyenne, WY 82003;

• BLM High Plains District Office, 2987 Prospector Drive, Casper, WY 82604; and

• BLM Buffalo Field Office, 1425 Fort Street, Buffalo, WY 82834.

Copies of the Cody ROD and ARMP are available upon request and are available for public inspection at:

• BLM Wyoming State Office, 5353 Yellowstone Road, Cheyenne, WY 82003; and

• BLM Cody Field Office, 1002 Blackburn Avenue, Cody, Wyoming 82414.

Copies of the HiLine ROD and ARMP are available upon request and are available for public inspection at:

• BLM Montana/Dakotas State Office, 5001 Southgate Drive, Billings, Montana 59101;

• BLM Havre Field Office, 3990 Highway 2 West, Havre, Montana 59501;

• BLM Malta Field Office, 501 South 2nd Street, Malta, Montana 59538; and

• BLM Glasgow Field Office, 5 Lasar Drive, Glasgow, Montana 59230.

Copies of the Miles City ROD and ARMP are available upon request and are available for public inspection at:

• BLM Montana/Dakotas State Office, 5001 Southgate Drive, Billings, Montana 59101; and

• BLM Miles City Field Office, 111 Garryowen Road, Miles City, MT 59301.

Copies of the South Dakota ROD and ARMP are available upon request and are available for public inspection at:

• BLM Montana/Dakotas State Office, 5001 Southgate Drive, Billings, Montana 59101; and

• BLM South Dakota Field Office, 310 Roundup Street, Belle Fourche, SD 57717.

Copies of the Worland ROD and ARMP are available upon request and are available for public inspection at:

• BLM Wyoming State Office, 5353 Yellowstone Road, Cheyenne, WY 82003; and

• BLM Worland Field Office, 101 South 23rd Street, Worland, Wyoming 82401.

For further information contact: For the Lewistown GRSG ARMPA: Adam Carr, BLM Project Lead, telephone 406-538-1913; address Lewistown Field Office, 920 Northeast Main, Lewistown, MT 59457; email acarr@blm.gov.

For the North Dakota GRSG ARMPA: Ruth Miller, BLM Team Lead, telephone 406-896-5023; address Montana/Dakotas State Office, 5001 Southgate Drive, Billings, MT 59101; email blm._mt_nd_sage_grouse@blm.gov.

For the Northwest Colorado GRSG ARMPA: Erin Jones, BLM Northwest District NEPA Coordinator, telephone 970-244-3008; address Northwest District Office, 2815 H Road, Grand Junction, CO 81506; email erjones@blm.gov.

For the Wyoming GRSG ARMPA: William West, BLM Planning and Environmental Coordinator, telephone 307-352-0259; address Rock Springs Field Office, 280 Highway 191 North, Rock Springs, Wyoming 82901; email wwest@blm.gov.

For the Billings ARMP: Carolyn Sherve-Bybee, Billings and Pompeys Pillar National Monument RMP Team Leader, telephone: 406-896-5234; address: 5001 Southgate Drive, Billings, MT 59101; email: billings_pompeyspillar_rmp@blm.gov.

For the Buffalo ARMP: Thomas Bills, Buffalo RMP Team Leader; The BLM Buffalo Field Office, 1425 Fort Street, Buffalo, WY 82834, by telephone 307-684-1133, or by email tbills@blm.gov.

For the Cody ARMP: Holly Elliott, RMP Project Manager, telephone: 307-347-5193; address: 101 South 23rd Street, Worland, Wyoming 82401; email: helliott@blm.gov.

For the HiLine ARMP: Brian Hockett, Planning and Environmental Coordinator, telephone: 406-262-2837; address: 3990 Highway 2 West, Havre, MT 59501; email: MT_HiLine_RMP@blm.gov.

For the Miles City ARMP: Mary Bloom, Miles City RMP Team Leader, telephone: 406-233-2800; address: 111 Garryowen Road, Miles City, MT 59301; email: mbloom@blm.gov.

For the Pompeys Pillar National Monument ARMP: Carolyn Sherve-Bybee, Billings and Pompeys Pillar National Monument RMP Team Leader, telephone: 406-896-5234; address: 5001 Southgate Drive, Billings, MT 59101; email: billings_pompeyspillar_rmp@blm.gov.

For the South Dakota ARMP: Mitch Iverson, RMP Project Manager, telephone: 605-892-7008; or Lori (Chip) Kimball, BLM South Dakota Field Manager, telephone: 605-892-7000; address: 310 Roundup Street, Belle Fourche, SD 57717; email: BLM_MT_South_Dakota_RMP@blm.gov.

For the Worland ARMP: Holly Elliott, RMP Project Manager, telephone: 307-347-5193; address: 101 South 23rd Street, Worland, Wyoming 82401; email: helliott@blm.gov.

Authority: 36 CFR 219.59, 40 CFR 1506.6, 40 CFR 1506.10, 43 CFR 1610.2; 43 CFR 1610.5.

Amy Lueders,
Acting Assistant Director, Renewable Resources & Planning.

[FR Doc. 2015-24208 Filed 9-22-15; 4:15 pm]

BILLING CODE 4310-22-P